DEPARTMENT OF THE TREASURY

Submission for OMB Review; Comment Request

February 20, 2004.

The Department of Treasury has submitted the following public information collection requirement(s) to OMB for review and clearance under the Paperwork Reduction Action of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written commens should be recieved on or before March 31, 2004 to be assured of consideration.

Internal Revenue Service (IRS)

OMB Number: 1545-0755.

Regulation Project Number: LR-53-83 Final.

Type of Review: Extension.

Title: Related Group Election With Respect to Qualified Investments in Foreign Base Company Shipping Operations.

Description: The election described in the attached justification converted an annual election to an election effective until revoked. The computational information required is necessary to assure that the U.S. shareholder correctly reports any shipping income of its controlled foreign corporations which is taxable to that shareholder.

Respondents: Business or other for-profit.

Estimated Number of Respondents: 100.

Estimated Burden Hours Respondent: 2 hours, 3 minutes.

Frequency of Response: Other (nonrecurring).

Estimated Total Reporting Burden: 205 hours.

OMB Number: 1545-0768.

Regulation Project Number: EE-178-78 Final (TD 7898).

Type of Review: Extension.

Title: Employees' Qualified Educational Assistance Programs.

Description: Respondents include employers who maintain education assistance programs for their employees. Information verifies that programs are qualified and that employees may exclude educational assistance from their gross incomes.

Respondents: business or other for-profit, Individuals or households.

Estimated Number of Respondents/Recordkeepers: 5,200.

Estimated Burden Hours Respondent/Recordkeeper: 7 minutes.

Frequency of Response: Annual.

Estimated Total Reporting/Recordkeeping Burden: 615 hours.

OMB Number: 1545-1555.

Regulation Project Number: REG-115975-97 Final.

Type of Review: Extension.

Title: General rules for Making and Maintaining Qualified Electing Fund Elections.

Description: The regulations provide rules for making section 1295 elections and satisfying annual reporting requirements for such elections, revoking section 1295 elections, and making retroactive section 1295 elections.

Respondents: Business or other for-profit, Individuals or households, Not-for-profit institutions.

Estimated Number of Respondents/Recordkeepers: 1,290.

Estimated Burden Hours Respondent/Recordkeeper: 29 minutes.

Frequency of Response: Other (one-time only).

Estimated Total Reporting/Recordkeeping Burden: 623 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-4452 Filed 2-27-04; 8:45 am]

BILLING CODE 4830-01-M